DEPARTMENT OF THE INTERIOR

National Park Service

[NPS-WASO-NAGPRA-NPS0034592; PPWOCRADN0-PCU00RP14.R50000]

Notice of Inventory Completion: Maxwell Museum of Anthropology, University of New Mexico, Albuquerque, NM

AGENCY: National Park Service, Interior.

ACTION: Notice.

SUMMARY: The Maxwell Museum of Anthropology, University of New Mexico has completed an inventory of human remains and associated funerary objects in consultation with the appropriate Indian Tribes or Native Hawaiian organizations, and has determined that there is a cultural affiliation between the human remains and associated funerary objects, and present-day Indian Tribes or Native Hawaiian organizations. Lineal descendants or representatives of any Indian Tribe or Native Hawaiian organization not identified in this notice that wish to request transfer of control of these human remains and associated funerary objects should submit a written request to the Maxwell Museum of Anthropology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Maxwell Museum of Anthropology at the address in this notice by November 10, 2022.

FOR FURTHER INFORMATION CONTACT: Dr. Carla Sinopoli, Maxwell Museum of Anthropology, MSC01-1050, 1 University of New Mexico, Albuquerque, NM 87131, telephone (505) 277-0382, email csinopoli@unm.edu.

SUPPLEMENTARY INFORMATION: Notice is here given in accordance with the Native American Graves Protection and Repatriation Act (NAGPRA), 25 U.S.C. 3003, of the completion of an inventory of human remains and associated funerary objects under the control of the Maxwell Museum of Anthropology, University of New Mexico, Albuquerque, NM. The human remains and associated funerary objects were removed from the Puerco River Valley in Bernalillo County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Maxwell Museum of Anthropology professional staff, in consultation with representatives of the Gila River Indian Community of the Gila River Indian Reservation, Arizona; Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Mescalero Apache Tribe of the Mescalero Reservation, New Mexico; Navajo Nation, Arizona, New Mexico, & Utah; Ohkay Owingeh, New Mexico (previously listed as Pueblo of San Juan); Pueblo of Acoma, New Mexico; Pueblo de Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of Santa Clara, New Mexico; Pueblo of Taos, New Mexico; Pueblo of Tesuque, New Mexico; Pueblo of Zia, New Mexico; Salt River Pima-Maricopa Indian Community of the Salt River Reservation, Arizona; San Juan Southern Paiute Tribe of Arizona; Santo Domingo Pueblo (previously listed as Kewa Pueblo, New Mexico, and as Pueblo of Santo Domingo); Southern Ute Indian Tribe of the Southern Ute Reservation, Colorado; Ute Mountain Ute Tribe (previously listed as Ute Mountain Tribe of the Ute Mountain Reservation, Colorado, New Mexico, & Utah); White Mountain Apache Tribe of the Fort Apache Reservation, Arizona; Ysleta del Sur Pueblo (previously listed as Ysleta Del Sur Pueblo of Texas); and the Zuni Tribe of the Zuni Reservation, New Mexico (hereafter referred to as “The Consulted Tribes”).

History and Description of the Remains

In 1976, human remains representing, at minimum, five individuals were removed from the Puerco River Valley (north of Interstate 40) in Bernalillo County, NM, and given to the Maxwell Museum by a surveyor for a proposed water line by the Westland Corporation, who owned the land at that time. The only burial information provided by the surveyor are general directional distinctions. The human remains belong to five adults of indeterminate sex. No known individuals were identified. The 36 associated funerary objects are two pottery sherds, one ground stone, one charcoal fragment, two faunal bones, 12 beads, one lithic core, one lithic flake, one faunal bone, one lot of faunal bone, one ceramic sherd, one lithic biface, three lithic flakes, and nine pottery sherds.

The undecorated grayware ceramic fragments associated with these individuals suggest a date range for these human remains between A.D. 750 and 1600. The combination of the grayware pottery sherds, flaked lithics, and beads show that these human remains are Native American. Based on geographical information, these human remains and associated funerary objects are culturally affiliated with the Pueblo of Isleta, New Mexico; Pueblo of Sandia, New Mexico; and the Ysleta del Sur Pueblo (previously listed as Ysleta Del Sur Pueblo of Texas).

Determinations Made by the Maxwell Museum of Anthropology, University of New Mexico

Officials of the Maxwell Museum of Anthropology, University of New Mexico have determined that:

• Pursuant to 25 U.S.C. 3001(9), the human remains described in this notice represent the physical remains of five individuals of Native American ancestry.

• Pursuant to 25 U.S.C. 3001(3)(A), the 36 objects described in this notice are reasonably believed to have been placed with or near individual human remains at the time of death or later as part of the death rite or ceremony.

• Pursuant to 25 U.S.C. 3001(2), there is a relationship of shared group identity that can be reasonably traced between the Native American human remains and associated funerary objects and the Pueblo of Isleta, New Mexico; Pueblo of Sandia, New Mexico; and the Ysleta del Sur Pueblo (previously listed as Ysleta Del Sur Pueblo of Texas) (hereafter referred to as “The Tribes”).

Additional Requestors and Disposition

Lineal descendants or representatives of any Indian Tribe or Native Hawaiian organization not identified in this notice that wish to request transfer of control of these human remains and associated funerary objects should submit a written request with information in support of the request to Dr. Carla Sinopoli, Maxwell Museum of Anthropology, MSC01-1050, 1 University of New Mexico, Albuquerque, NM 87131, telephone (505) 277-0382, email csinopoli@unm.edu, by November 10, 2022. After that date, if no additional requestors have come forward, transfer of control of the human remains and associated funerary objects to The Tribes may proceed.

The Maxwell Museum of Anthropology, University of New Mexico is responsible for notifying The Consulted Tribes that this notice has been published.

Dated: September 27, 2022.
Melanie O'Brien,
Manager, National NAGPRA Program.

[FR Doc. 2022-22043 Filed 10-7-22; 8:45 am]

BILLING CODE 4312-52-P